Title 3—

The President

Memorandum of November 15, 2024

Delegation of Authorities Under Sections 507(d) and 508(a) of the Ukraine Security Supplemental Appropriations Act, 2024

Memorandum for the Secretary of State

By the authority vested in me as President by the Constitution and the laws of the United States of America, including section 301 of title 3, United States Code, I hereby delegate to the Secretary of State the authorities under sections 507(d) and 508(a) of the Ukraine Security Supplemental Appropriations Act, 2024 (Division B of Public Law 118-50).

You are authorized and directed to publish this memorandum in the Federal Register.

THE WHITE HOUSE,

Washington, November 15, 2024

[FR Doc. 2024-29311

Filed 12-10-24; 8:45 am]

Billing code 4710-10-P